DEPARTMENT OF COMMERCE

National Oceanic and Atmospheric Administration

[RTID 0648-XC219]

Mid-Atlantic Fishery Management Council (MAFMC); Public Meetings

AGENCY: National Marine Fisheries Service (NMFS), National Oceanic and Atmospheric Administration (NOAA), Commerce.

ACTION: Notice; public meetings.

SUMMARY: Several fishery management bodies on the East Coast of the U.S. are convening two public webinars to continue work on the East Coast Climate Change Scenario Planning initiative. This is a joint effort of the Atlantic States Marine Fisheries Commission, the New England Fishery Management Council, the Mid-Atlantic Fishery Management Council, the South Atlantic Fishery Management Council, and NOAA Fisheries. See SUPPLEMENTARY INFORMATION for agenda details.

DATES: These webinars will be held on Wednesday, August 17, 2022, from 3 p.m. to 5 p.m. and Tuesday, August 23, 2022, from 10 a.m. to 12 p.m.

ADDRESSES: The meetings will be held via webinar. Connection information will be posted to the calendar prior to the meeting at www.mafmc.org.

FOR FURTHER INFORMATION CONTACT: Christopher M. Moore, Ph.D., Executive Director, Mid-Atlantic Fishery Management Council, telephone: (302) 526-5255.

SUPPLEMENTARY INFORMATION:

Background: Over the past year, East Coast fishery management bodies have been collaborating on a climate change scenario planning initiative designed to prepare fishing communities and fishery managers for an era of climate change. The goals of this project are to assess how climate change might affect stock distribution and availability of East Coast marine fisheries over the next 20 years and to identify the implications for fishery management and governance.

In June 2022, a group of about 70 stakeholders attended a workshop to develop an initial set of scenarios, describing several different possible futures facing East Coast fisheries out to 2042. The next step in the scenario planning process will be two scenario deepening webinars to be held in August 2022. These webinars will offer all interested stakeholders an opportunity to review, validate, and add details to the initial scenarios. Each 2-hour session will begin with an overview of the outputs and draft stories from the initial scenarios. Webinar participants will then have an opportunity to add comments and suggestions to make the scenarios more plausible, challenging, relevant, memorable, and divergent. For each scenario, participants will be encouraged to imagine specific examples about impacts to particular species, regions, and communities. Participants only need to attend one of the two webinars. Registration information will be made available on the initiative web page at: https://www.mafmc.org/climate-change-scenario-planning. A summary of the draft scenarios is being developed and will be posted to the same web page once available. Participants are encouraged to review this summary before the webinars and come prepared to share comments on the specific scenarios.

The outcome of the two webinars will be a more detailed set of scenarios that will be used as a platform for later stages of the process, looking specifically at how fishery management and governance must change to be prepared for a future of climate change.

Special Accommodations

These meetings are physically accessible to people with disabilities. Requests for sign language interpretation or other auxiliary aid should be directed to Shelley Spedden, (302) 526-5251, at least 5 days prior to the meeting date.

Authority: 16 U.S.C. 1801 et seq.

Dated: July 27, 2022.
Rey Israel Marquez,
Acting Deputy Director, Office of Sustainable Fisheries, National Marine Fisheries Service.

[FR Doc. 2022-16437 Filed 7-29-22; 8:45 am]

BILLING CODE 3510-22-P